DEPARTMENT OF ENERGY

Federal Energy Regulatory Commission

[Project No. 13346-003]

Free Flow Power Corporation; Notice of Application Tendered for Filing With the Commission and Soliciting Additional Study Requests

Correction

Editorial Note: Notice document 2012-30397, originally scheduled to appear in the issue of Tuesday, December 18, 2012, was omitted from publication. The document was placed on public inspection on Monday, December 17, 2012 and will publish in its entirety as set forth below.

Take notice that the following hydroelectric application has been filed with the Commission and is available for public inspection.

a. Type of Application: Original Major License.

b. Project No.: P-13346-003.

c. Date filed: December 3, 2012.

d. Applicant: Free Flow Power Corporation (Free Flow Power), on behalf of its subsidiary Paynebridge, LLC.

e. Name of Project: Williams Dam Water Power Project.

f. Location: At the existing Williams Dam owned by the Indiana Department of Natural Resources on the East Fork White River in Lawrence County, Indiana. No federal lands are occupied by the project works or located within the project boundary.

g. Filed Pursuant to: Federal Power Act 16 U.S.C. 791(a)-825(r).

h. Applicant Contacts: Ramya Swaminathan, Chief Operating Officer, Free Flow Power Corporation, 239 Causeway Street, Suite 300, Boston, MA 02114; or at (978) 283-2822.

Daniel Lissner, General Counsel, Free Flow Power Corporation, 239 Causeway Street, Suite 300, Boston, MA 02114; or at (978) 283-2822.

Alan Topalian, Regulatory Attorney, Free Flow Power Corporation, 239 Causeway Street, Suite 300, Boston, MA 02114; or at (978) 283-2822.

i. FERC Contact: Aaron Liberty at (202) 502-6862 or by email at Aaron.Liberty@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 1, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The proposed Williams Dam Water Power Project would be located at the existing 21.3-foot-high, 294-foot-long Williams Dam currently owned by the State of Indiana, on the East Fork White River in Lawrence County, Indiana. In addition to the dam, proposed project facilities would include: (1) An 80-foot-long, 21.5-foot-high, 100-foot-wide intake structure with trashracks having 3-inch-clear bar spacing; (2) a 126-foot-long, 70-foot-wide powerhouse integral to the dam; (3) four turbine-generator units with a combined installed capacity of 4.0 MW; (4) a 40-foot by 40-foot substation; (5) a 265-foot-long, three-phase, 12.5-kilovolt overhead transmission line connecting the project's substation to local utility distribution lines; and (6) other appurtenant facilities.

The proposed project would operate in a run-of-river mode by maintaining the reservoir's water surface elevation at the crest of the dam's spillway. The average annual generation would be about 17,850 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Notice of Acceptance | March 2013.
Issue Scoping Document 1 for comments | April 2013.
Comments due on Scoping Document 1 | June 2013.
Issue Scoping Document 2 | June 2013.
Issue notice of ready for environmental analysis | September 2013.
Issue Environmental Assessment (EA) | March 2014.
Comments on due on EA | April 2014.

Dated: December 12, 2012.
Kimberly D. Bose,
Secretary.

[FR Doc. 2012-30397 Filed 12-17-12; 8:45 a.m.]

Editorial Note: Notice document 2012-30397, originally scheduled to appear in the issue of Tuesday, December 18, 2012, was omitted from publication. The document was placed on public inspection on Monday, December 17, 2012 and has published in its entirety.

[FR Doc. C1-2012-30397 Filed 12-21-12; 8:45 am]

BILLING CODE 1505-01-D